DEPARTMENT OF COMMERCE

International Trade Administration

[A-533-942, A-560-846, A-553-003]

Crystalline Silicon Photovoltaic Cells, Whether or Not Assembled Into Modules, From India, Indonesia, and the Lao People's Democratic Republic: Postponement of Preliminary Determinations in the Less-Than-Fair-Value Investigations

AGENCY: Enforcement and Compliance, International Trade Administration, Department of Commerce.

DATES: Applicable February 19, 2026.

FOR FURTHER INFORMATION CONTACT: Jonathan Schueler (202) 482-9175 (India), Myrna Lobo (202) 482-2371 (Indonesia), and Lilit Astvatsatrian at (202) 482-6412 (the Lao People's Democratic Republic (Laos)), AD/CVD Operations, Enforcement and Compliance, International Trade Administration, U.S. Department of Commerce, 1401 Constitution Avenue NW, Washington, DC 20230.

SUPPLEMENTARY INFORMATION:

Background

On August 6, 2025, the U.S. Department of Commerce (Commerce) initiated less-than-fair-value (LTFV) investigations of imports of crystalline silicon photovoltaic cells, whether or not assembled into modules (solar cells), from India, Indonesia, and Laos.¹ Additionally, due to the lapse in appropriations and Federal Government shutdown, on November 14, 2025, Commerce tolled all deadlines in administrative proceedings by 47 days,² and, due to a backlog of documents that were electronically filed via Enforcement and Compliance's Antidumping and Countervailing Duty Centralized Electronic Service System (ACCESS) during the Federal Government shutdown, on November 24, 2025, Commerce tolled all deadlines in administrative proceedings by an additional 21 days.³ Currently, the preliminary determinations are due no later than March 2, 2026.

¹ See Crystalline Silicon Photovoltaic Cells, Whether or Not Assembled Into Modules, from India, Indonesia, and the Lao People's Democratic Republic: Initiation of Less-Than-Fair-Value Investigations, 90 FR 38736 (August 12, 2025).

² See Memorandum, “Deadlines Affected by the Shutdown of the Federal Government,” dated November 14, 2025.

³ See Memorandum, “Tolling of all Case Deadlines,” dated November 24, 2025.

Postponement of Preliminary Determination

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On February 3, 2026, the petitioner ⁴ submitted a timely request that Commerce postpone the preliminary determinations in these LTFV investigations.⁵ The petitioner stated that it requested postponement because, inter alia, “these investigations cover solar cells and modules from multiple countries, and thus require a significant amount of resources to fully investigate.” ⁶

⁴ The petitioner is the Alliance for American Solar Manufacturing and Trade.

⁵ See Petitioner's Letter, “Request to Postpone Preliminary Determinations,” dated February 3, 2026.

⁶ Id. at 1.

For the reason stated above and because there are no compelling reasons to deny the request, Commerce, in accordance with section 733(c)(1)(A) of the Act, is postponing the deadline for the preliminary determinations by 50 days (i.e., 190 days after the date on which these investigations were initiated). As a result, Commerce will issue its preliminary determinations no later than April 21, 2026. In accordance with section 735(a)(1) of the Act and 19 CFR 351.210(b)(1), the deadline for the final determinations of these investigations will continue to be 75 days after the date of the preliminary determinations, unless postponed at a later date.

This notice is issued and published pursuant to section 733(c)(2) of the Act and 19 CFR 351.205(f)(1).

Dated: February 13, 2026.
Christopher Abbott,
Deputy Assistant Secretary for Policy and Negotiations, performing the non-exclusive functions and duties of the Assistant Secretary for Enforcement and Compliance.

[FR Doc. 2026-03288 Filed 2-18-26; 8:45 am]

BILLING CODE 3510-DS-P